COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and a service to the Procurement List that will be furnished by nonprofit agencies employing persons who are blind or have other significant disabilities, and deletes products from the Procurement List previously furnished by such agencies.

DATES: Effective Date: 7/20/2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 3/27/2015 (80 FR 16363-16364) and 5/1/2015 (80 FR 24905-24906), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s)

MR 400—Bag, Shopping Tote, Laminated, Small, “Live Spicy”

MR 401—Bag, Shopping Tote, Laminated, Small, “Live Fresh”

MR 402—Bag, Shopping Tote, Laminated, Small, “Live Sweet”

MR 403—Bag, Shopping Tote, Laminated, Small, “Live Well”

MR 404—Bag, Shopping Tote, Laminated, Large, “Live Spicy”

MR 405—Bag, Shopping Tote, Laminated, Fresh, “Live Fresh”

MR 406—Bag, Shopping Tote, Laminated, Large, “Live Sweet”

MR 407—Bag, Shopping Tote, Laminated, Large, “Live Well”

Mandatory Source of Supply: Industries for the Blind, Inc., West Allis, WI

Mandatory Purchase For: Military commissaries and exchanges in accordance with the Code of Federal Regulations, Chapter 51, 51-6.4

Contracting Activity: Defense Commissary Agency

Distribution: C-List

Service

Service Type: Custodial and Related Service

Service Is Mandatory For: GSA PBS Region 4, Federal Building and U.S. Courthouse, 100 West Troy Street, Dothan, AL

G. W. Andrews Federal Building and U.S. Courthouse, Opelika, AL

Federal Building and U.S. Courthouse, 908 Alabama Street, Selma, AL

Mandatory Source of Supply: Goodwill Industries of Central Alabama, Inc., Montgomery, AL

Contracting Activity: GSA, Public Buildings Service, Acquisition Division/Services Branch, Atlanta, GA

Deletions

On 5/15/2015 (80 FR 27929-27930), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Product Name/NSN(s)

7210-00-205-3544—Cushion, Chair

7210-00-205-3545—Cushion, Chair

Mandatory Source of Supply: Unknown

Contracting Activity: General Services Administration

Product Name/NSN(s)

2540-00-904-5680—Cushion Seat, Vehicular

Mandatory Source of Supply: The Douglas Center, Skokie, IL

Contracting Activity: Defense Logistics Agency Land and Maritime

Product Name/NSN(s)

MR 3202—Stay Put Elastics Asst

MR 3216—Fashion Bobby Pin

Mandatory Source of Supply: Association for Vision Rehabilitation and Employment, Inc., Binghamton, NY

Contracting Activity: Defense Commissary Agency

Product Name/NSN(s)

MR 992—Duster, Lambswool

Mandatory Source of Supply: Industries of the Blind, Inc., Greensboro, NC

Contracting Activity: Defense Commissary Agency

Barry S. Lineback,
Director, Business Operations.

[FR Doc. 2015-15122 Filed 6-18-15; 8:45 am]

BILLING CODE 6353-01-P